DEPARTMENT OF ENERGY

Federal Energy Regulatory Commission

Notice of Transfer of License and Soliciting Comments, Motions to Intervene, and Protests

August 1, 2002.

Take notice that the following hydroelectric application has been filed with the Commission and is available for public inspection:

a. Application Type: Transfer of License.

b. Project No.: 1895-012.

c. Date Filed: July 10, 2002.

d. Applicants: South Carolina Electric & Gas Company (Transferor) and the City of Columbia, South Carolina (Transferee).

e. Name of Project: Columbia.

f. Location: The project is located on the Broad and Congaree Rivers in the City of Columbia and Richland County, South Carolina. The project does not occupy any federal lands.

g. Filed Pursuant to: Federal Power Act, 16 U.S.C. 791(a)-825(r).

h. Applicants Contacts: Brian J. McManus, Jones, Day, Reavis & Pogue, 51 Louisiana Avenue, NW., Washington, DC 20001-2113, (202) 879-5452 (for the Transferor); Frances E. Francis and William S. Huang, Spiegel & McDiarmid, 1350 New York Avenue, NW., Suite 1100, Washington, DC 20005-4798, (202) 879-4000 (for the Transferee).

i. FERC Contact: Regina Saizan, (202) 219-2673.

j. Deadline for filing comments and or motions: August 16, 2002.

All documents (original and eight copies) should be filed with: Magalie R. Salas, Secretary, Federal Energy Regulatory Commission, 888 First Street, NE., Washington, DC 20426. Please include the Project Number (1895-012) on any comments or motions filed.

k. Description of Transfer: As consideration for entering into a franchise agreement to supply electricity and gas service, South Carolina Electric & Gas Company (SCE&G) has agreed (pursuant to a Conveyance Agreement), to convey to the City of Columbia, South Carolina (City), the Columbia area transit system operated by SCE&G, and the Columbia Project No. 1895. Consequently, SCE&G and the City seek Commission approval to transfer the license for the Columbia Project from SCE&G to the City. On May 30, 2002, the Commission issued SCE&G a new license for the project. 99 FERC ¶ 62,152 (2002), reh'g filed, July 1, 2002. The application also includes a request to delete (as inapplicable to the City) Article 204 (requirement for maintaining amortization reserves) of the new license, upon approval of the transfer.

l. Location of the Application: This filing is available for review at the Commission or may be viewed on the Commission's web site at http://www/ferc/gov using the “RIMS” link, select “Docket #” and follow the instructions (call 202-208-2222 for assistance). A copy is also available for inspection and reproduction at the addresses in item h above.

Comments, protests, and interventions may be filed electronically via the Internet in lieu of paper; see 18 CFR 385.2001(a)(1)(iii) and the instructions on the Commission's web site under the “e-Filing” link. The Commission strongly encourages electronic filings.

m. Individuals desiring to be included on the Commission's mailing list should so indicate by writing to the Secretary of the Commission.

n. Comments, Protests, or Motions to Intervene—-Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

o. Filing and Service of Responsive Documents—-Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—-Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Deputy Secretary.

[FR Doc. 02-19918 Filed 8-6-02; 8:45 am]

BILLING CODE 6717-01-P